DEPARTMENT OF COMMERCE

International Trade Administration

[A-580-886]

Ferrovanadium From the Republic of Korea: Preliminary Results of Antidumping Duty Administrative Review and Preliminary Determination of No Shipments in Part; 2017-2018

AGENCY: Enforcement and Compliance, International Trade Administration, Department of Commerce.

SUMMARY: The Department of Commerce (Commerce) has preliminarily determined that two of the three respondents in this administrative review (AR) of the antidumping duty (AD) order on ferrovanadium from the Republic of Korea (Korea), Korvan Ind, Co., Ltd. (Korvan) and Woojin Ind. Co., Ltd. (Woojin), made no shipments of subject merchandise to the United States during the period of review (POR), May 1, 2018 through April 30, 2019. Commerce has preliminarily assigned the third respondent, Fortune Metallurgical Group Co., Ltd. (Fortune), an AD margin based upon the application of total adverse facts available. We invite interested parties to comment on these preliminary results.

DATES: Applicable March 23, 2020.

FOR FURTHER INFORMATION CONTACT: Karine Gziryan, AD/CVD Operations, Office IV, Enforcement and Compliance, International Trade Administration, Department of Commerce, 1401 Constitution Avenue NW, Washington, DC 20230; telephone: (202) 482-4081.

SUPPLEMENTARY INFORMATION:

Background

On May 1, 2019, Commerce notified interested parties of the opportunity to request an AR of orders, findings, or suspended investigations with anniversaries in May 2019, including the AD order on ferrovanadium from Korea.¹ Commerce received a request from AMG Vanadium LLC (the petitioner), to conduct an AR of the AD order on ferrovanadium from Korea with respect to Korvan, Woojin, and Fortune.²

¹ See Antidumping or Countervailing Duty Order, Finding, or Suspended Investigation; Opportunity To Request Administrative Review, 84 FR 18479 (May 1, 2019).

² See Petitioner's Letter, “Ferrovanadium from the Republic of Korea: Request For Administrative Review,” dated May 31, 2019.

After initiating this review with respect to Korvan, Woojin, and Fortune, on July 25, 2019, Commerce issued an antidumping duty questionnaire to each of these companies.³ Korvan and Woojin submitted no shipments letters.⁴ Fortune did not respond to the questionnaire.

³ See Commerce Letters to Korvan, Woojin, and Fortune with the AD Questionnaire attached dated July 25, 2019.

⁴ See Woojin's Letter, “Ferrovanadium from the Republic of Korea: Statement of No Shipments” dated August 12, 2019; see also Korvan's Submission dated August 16, 2019 (which is a corrected version of an August 8, 2019, submission that Commerce rejected due to filing deficiencies).

On January 22, 2020, Commerce extended the due date for issuing the preliminary results of this review until March 6, 2020.⁵

⁵ See Memorandum, “Ferrovanadium from the Republic of Korea: Extension of Deadline for Preliminary Results of Antidumping Duty Administrative Review,” dated January 22, 2020.

For a complete description of the events that followed the initiation of this AR, see the Preliminary Decision Memorandum which is hereby adopted by this notice.⁶

⁶ See Memorandum, “Decision Memorandum for the Preliminary Results in the Antidumping Duty Administrative Review of Ferrovanadium from the Republic of Korea; 2018-2019,” dated concurrently, and hereby adopted by, this notice (Preliminary Decision Memorandum).

Scope of the Order

The product covered by this review is ferrovanadium from Korea. For a full description of the scope see the Preliminary Decision Memorandum.

Methodology

Commerce is conducting this review in accordance with section 751(a)(1)(B) of the Tariff Act of 1930, as amended (the Act). For a full description of the methodology underlying our conclusions, see the Preliminary Decision Memorandum. A list of the topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov, and it is available to all parties in the Central Records Unit, Room B8024 of the main Commerce building. In addition, a complete version of the Preliminary Decision Memorandum is available at http://enforcement.trade.gov/frn/. The signed Preliminary Decision Memorandum and the electronic version of the Preliminary Decision Memorandum are identical in content.

Preliminary Determination of No Shipments

Commerce preliminarily determines that Korvan and Woojin, each of which claimed to have made no shipments of subject merchandise to the United States during the POR, did not have any shipments during the POR. For details regarding this determination, see the Preliminary Decision Memorandum. Consistent with Commerce's practice, we are not rescinding this AR with respect to these two companies, but we intend to complete the review and issue appropriate instructions to CBP based on the final results of the review.⁷

⁷ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306 (August 28, 2014).

Adverse Facts Available

Pursuant to sections 776(a) and (b) of the Act, Commerce has preliminarily assigned Fortune an AD margin of 54.69 percent, as AFA, because it did not respond to Commerce's AD questionnaire. For details regarding this determination, see the Preliminary Decision Memorandum.

Preliminary Results of Review

Commerce preliminarily determines that the following estimated weighted-average dumping margin exists:

Exporter/producer | Estimated weighted-average dumping margin (percent)
Fortune Metallurgical Group Co., Ltd | 54.69

Assessment Rates

Upon issuance of the final results of review, Commerce will determine, and U.S. Customs and Border Protection (CBP) shall assess, antidumping duties on all appropriate entries covered by this review.⁸ The final results of this AR shall be the basis for the assessment of antidumping duties on entries of merchandise under review and for future deposits of estimated duties, where applicable.⁹ We intend to issue liquidation instructions to CBP 15 days after publication of the final results of this review. Pursuant to Commerce's practice, if we continue to determine that Korvan and Woojin made no sales or shipments of subject merchandise to the United States during the POR, any suspended entries of subject merchandise during the POR under their case numbers will be liquidated at the all-others rate.

⁸ See 19 CFR 351.212(b).

⁹ See section 751(a)(2)(C) of the Act.

Cash Deposits

The following cash deposit requirements for estimated antidumping duties will be effective upon publication of the notice of final results of this review for all shipments of ferrovanadium from Korea entered, or withdrawn from warehouse, for consumption on or after the date of publication of the notice as provided by section 751(a)(2)(C) of the Act: (1) The cash deposit rate for Fortune will be equal to the weighted-average dumping margin for Fortune established in the final results of the review; (2) for merchandise exported by companies not covered in this review but covered in a prior segment of this proceeding, the cash deposit rate will continue to be the company-specific rate established for the most recently completed segment of the proceeding; (3) if the exporter is not a firm covered in this review, in a prior review, or in the investigation in this proceeding but the producer is, then the cash deposit rate will be the rate established for the producer of the merchandise in the most recently completed segment of the proceeding; and (4) the cash deposit rate for all other producers or exporters will continue to be 3.22 percent, the all-others rate established in the less-than-fair-value investigation.¹⁰ These cash deposit requirements, when imposed, shall remain in effect until further notice.

¹⁰ See Ferrovanadium From the Republic of Korea: Final Determination of Sales at Less Than Fair Value, 82 FR 14874 (March 23, 2017).

Public Comment

Pursuant to 19 CFR 351.309(c), interested parties may submit case briefs to the Assistant Secretary for Enforcement and Compliance not later than 30 days after the date of publication of this notice, unless the Secretary alters the time limit. Rebuttal briefs, limited to issues raised in the case briefs, may be filed not later than five days after the date for filing case briefs.¹¹ Interested parties who submit case briefs or rebuttal briefs in this AR are encouraged to submit with each argument: (1) A statement of the issue, (2) a brief summary of the argument, and (3) a table of authorities.¹²

¹¹ See 19 CFR 351.309(d); see also 19 CFR 351.303 (for general filing requirements).

¹² See 19 CFR 351.309(c)(2) and (d)(2).

Pursuant to 19 CFR 351.310(c), interested parties who wish to request a hearing must submit a written request for a hearing, filed electronically via ACCESS, to the Assistant Secretary for Enforcement and Compliance within 30 days after the date of publication of this notice.¹³ An electronically filed document must be received successfully in its entirety by Commerce's electronic records system, ACCESS, by 5:00 p.m. Eastern Time on the due date. Hearing requests should contain: (1) The requestor's name, address and telephone number; (2) the number of persons from the requestor that will participate in the hearing; and (3) a list of issues the requestor will discuss at the hearing. Issues raised in the hearing will be limited to those issues raised in case briefs. Commerce intends to issue the final results of this AR, including the results of its analysis of the issues raised in any written briefs, not later than 120 days after the date of publication of these preliminary results of review in the Federal Register, pursuant to section 751(a)(3)(A) of the Act, unless extended.

¹³ See 19 CFR 351.310(c).

Notification to Importers

This notice serves as a preliminary reminder to importers of their responsibility under 19 CFR 351.402(f)(2) to file a certificate regarding the reimbursement of antidumping duties prior to liquidation of the relevant entries during this period of review. Failure to comply with this requirement could result in Commerce's presumption that reimbursement of antidumping duties occurred and the subsequent assessment of double antidumping duties.

Commerce is issuing and publishing these results of review in accordance with sections 751(a)(1) and 777(i) of the Act and 19 CFR 351.221(b)(4).

Dated: March 4, 2020.
Jeffrey I. Kessler,
Assistant Secretary for Enforcement and Compliance.

Appendix

List of Topics Discussed in the Preliminary Decision Memorandum

I. Summary

II. Background

III. Scope of the Order

IV. Preliminary Determination of No Shipments

V. Application of Facts Available and Adverse Inferences

VI. Recommendation

[FR Doc. 2020-06055 Filed 3-20-20; 8:45 am]

BILLING CODE 3510-DS-P